FEDERAL RESERVE SYSTEM

Sunshine Act Meeting

Agency Holding the Meeting: Board of Governors of the Federal Reserve System.

Federal Register Citation of Previous Announcement: Federal Register cite unavailable.

Previously Announced Time and Date of the Meeting: 10 a.m., Wednesday, August 1, 2001.

Changes in the Meeting: The Meeting has been canceled.

Contact Person for More Information: Michelle A. Smith, Assistant to the Board; 202-452-3204.

Supplementary Information: You may call 202-452-3206 for a recorded announcement of this meeting; or you may contact the Board's Web site at http://www.federalreserve.gov for an electronic announcement. (The Web site also includes procedural and other information about the open meeting.)

Dated: July 26, 2001.
Robert deV. Frierson,
Associate Secretary of the Board.

[FR Doc. 01-18994 Filed 7-26-01; 12:19 pm]

BILLING CODE 6210-01-P